DEPARTMENT OF JUSTICE

[OMB Number 1105-0102]

Agency Information Collection Activities; Proposed eCollection eComments Requested; Extension of a Previously Approved Collection; Statement of Claim for Filing of Claims in the Guam Claims Program Pursuant to the Guam World War II Loyalty Recognition Act

AGENCY: U.S. Marshals Service, Department of Justice.

ACTION: 60-Day notice.

SUMMARY: The U.S. Marshals Service (USMS), Department of Justice (DOJ), will be submitting the following information collection request to the Office of Management and Budget (OMB) for review and approval in accordance with the Paperwork Reduction Act of 1995.

DATES: Comments are encouraged and will be accepted for 60 days until October 2, 2023.

FOR FURTHER INFORMATION CONTACT: If you have additional comments especially on the estimated public burden or associated response time, suggestions, or need a copy of the proposed information collection instrument with instructions or additional information, please contact Jeremy LaFrancois, Foreign Claims Settlement Commission, 600 E Street NW, Suite 6002, Washington, DC 20579; telephone: 202-616-6981 or jeremy.r.lafrancois@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Information will be used as a basis for the Commission to receive, examine, adjudicate and render final decisions with respect to claims for compensation of claims pursuant to the Guam World War II Loyalty Recognition Act, title XVII, Public Law 114-328.

Overview of This Information Collection

1. Type of Information Collection: Extension of a previously approved collection.

2. The Title of the Form/Collection: Statement of Claim for filing of Claims in the Guam Claims Program Pursuant to the Guam World War II Loyalty Recognition Act.

3. The agency form number, if any, and the applicable component of the Department sponsoring the collection: Form number: FCSC-2, FCSC-2C. Component: USMS.

4. Affected Public: Individuals or households. The obligation to respond is mandatory per 45 CFR part 510.

5. An estimate of the total number of respondents and the amount of time estimated for an average respondent to respond: The estimated number of respondents is 5,000. The time per response is two hours to complete the form.

6. An estimate of the total annual burden (in hours) associated with the collection: The total annual burden hours for this collection is 10,000 hours.

7. An estimate of the total annual cost burden associated with the collection: $0.

Total Burden Hours
Activity | Number of respondents | Frequency | Total annual responses | Time per response (hours) | Total annual burden (hours)
FCSC-2, FCSC-2C | 5,000 | 1/annually | 5,000 | 2 | 10,000
Unduplicated Totals | 5,000 |  | 5,000 |  | 10,000

If additional information is required contact: Darwin Arceo, Department Clearance Officer, United States Department of Justice, Justice Management Division, Policy and Planning Staff, Two Constitution Square, 145 N Street NE, 4W-218, Washington, DC.

Dated: July 27, 2023.
Darwin Arceo,
Department Clearance Officer for PRA, U.S. Department of Justice.

[FR Doc. 2023-16291 Filed 7-31-23; 8:45 am]

BILLING CODE 4410-18-P